DEPARTMENT OF ENERGY

Federal Energy Regulatory Commission

[Docket No. RP07-325-000]

Equitrans, L.P.; Notice of Technical Conference

April 20, 2007.

Take notice that the Commission will convene a technical conference in the above referenced proceeding on Friday, May 4, 2007, at 10 a.m. (EDT), in a room to be designated at the offices of the Federal Energy Regulatory Commission, 888 First Street, NE., Washington, DC 20426.

The Commission's March 29, 2007 order ¹ directed that a technical conference be held to address the issues raised by a March 1, 2007 filing of Equitrans, L.P. (Equitrans) to institute a surcharge to recover certain costs incurred by Equitrans under the Pipeline Safety Improvement Act of 2002 (PSIA).

¹ Equitrans, L.P., 118 FERC ¶ 61,258 (2007).

The parties and the Commission Staff will have the opportunity to discuss all of the issues raised by the filing including, but not limited to, the validity of the costs Equitrans seeks to recover and the underlying support for these costs.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Lisa T. Long by phone at (202) 502-8691 or via e-mail at lisa.long@ferc.gov.

Kimberly D. Bose,
Secretary.

[FR Doc. E7-7988 Filed 4-25-07; 8:45 am]

BILLING CODE 6717-01-P